DEPARTMENT OF TRANSPORTATION

Federal Aviation Administration

14 CFR Part 71

[Docket No. FAA-2012-1168; Airspace Docket No. 07-AWA-3]

RIN 2120-AA66

Modification of the Dallas/Fort Worth Class B Airspace Area; TX

AGENCY: Federal Aviation Administration (FAA), DOT.

ACTION: Final rule; correction.

SUMMARY: This action corrects a final rule published in the Federal Register January 21, 2014. In that rule, two geographic coordinate references, one in Area J and one in Area M, were incorrectly published in the Dallas/Fort Worth Class B airspace area regulatory text descriptions.

DATES: Effective Date: 0901 UTC, March 6, 2014. The Director of the Federal Register approves this incorporation by reference action under 1 CFR part 51, subject to the annual revision of FAA Order 7400.9 and publication of conforming amendments.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On January 21, 2014, a final rule for FAA Docket No. FAA-2012-1168, Airspace Docket No. 07-AWA-3, was published in the Federal Register (79 FR 3315) to amend the Dallas/Fort Worth Class B airspace area. The longitude information contained in one of the geographic coordinates defining a boundary point in the Area J regulatory text, and the latitude information contained in one of the geographic coordinates defining a boundary point in the Area M regulatory text were published with typographic errors. The geographic coordinates to be corrected for Area J are changed from “lat. 32°39′56″ N., long. 97°20′39″ W.” to “lat. 32°39′56″ N., long. 97°20′38″ W.” and the geographic coordinates to be corrected for Area M are changed from “lat. 32°02′04″ N., long. 97°30′09″ W.” to “lat. 33°02′04″ N., long. 97°30′09″ W.”

Correction to Final Rule

Accordingly, pursuant to the authority delegated to me, in the final rule FAA Docket No. FAA-2012-1168, published in the Federal Register on January 21, 2014 (79 FR 3315) FR Doc. 2014-00941, make the following correction:

§ 71.1 [Amended]

On page 3324, column 1, starting on line 32, for Area J, remove (lat. 32°39′56″ N., long. 97°20′39″ W.) and add in its place (lat. 32°39′56″ N., long. 97°20′38″ W.).

On page 3324, column 3, starting on line 4, for Area M, remove (lat. 32°02′04″ N., long. 97°30′09″ W.) and add in its place (lat. 33°02′04″ N., long. 97°30′09″ W.).

Issued in Washington, DC, on January 29, 2014.
Gary A. Norek,
Manager, Airspace Policy and Regulations Group.

[FR Doc. 2014-02331 Filed 2-4-14; 8:45 am]

BILLING CODE 4910-13-P